DEPARTMENT OF TRANSPORTATION

Federal Aviation Administration

[Docket No. FAA-2019-0369]

Agency Information Collection Activities: Requests for Comments; Clearance of a Renewed Approval of Information Collection: Human Space Flight Requirements for Crew and Space Flight Participants

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the Human Space Flight Requirements for Crew and Space Flight Participants collection of information was published on June 12, 2019. The collection involves information demonstrating that a launch or reentry operation involving a human participant will meet the risk criteria and requirements to ensure public safety. The information to be collected is necessary for the FAA to assess crew qualification and training; for operators to inform space flight participants and crew members of the risks associated with launch and reentry activities; for the implementation of waiver of claims; and to ensure environmental control and life support systems and other systems adequately protect public health and safety.

DATES: Written comments should be submitted by September 18, 2019.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Shirley McBride by email at: Shirley.McBride@faa.gov; phone: 202-267-7470.

SUPPLEMENTARY INFORMATION:

Public Comments Invited: You are asked to comment on any aspect of this information collection, including (a) whether the proposed collection of information is necessary for FAA's performance; (b) the accuracy of the estimated burden; (c) ways for FAA to enhance the quality, utility and clarity of the information collection; and, (d) ways that the burden could be minimized without reducing the quality of the collected information. The agency will summarize and/or include your comments in the request for OMB's clearance of this information collection.

OMB Control Number: 2120-0720.

Title: Same title as above.

Form Numbers: N/A.

Type of Review: Renewal.

Background: The Federal Register Notice with a 60-day comment period soliciting comments on the Human Space Flight Requirements for Crew and Space Flight Participants collection of information was published on June 12, 2019 (84 FR 27391). The FAA established requirements for human space flight of crew and space flight participants as required by the Commercial Space Launch Amendments Act of 2004. The information collected is used by the FAA, a licensee or permittee, a space flight participant, or a crew member. The FAA uses the information to ensure that a launch or reentry operation involving a human on board a vehicle will meet the risk criteria and requirements to ensure public safety.

Respondents: All commercial space entities that propose to conduct a launch or reentry with flight crew or space flight participants on board must comply with this collection.

Frequency: Information is collected on occasion.

Estimated Average Burden per Response: 4 hours.

Estimated Total Annual Burden: 808 hours.

Issued in Washington, DC, on August 13, 2019.
Kelvin B. Coleman,
Deputy Associate Administrator, Office of Commercial Space Transportation.

[FR Doc. 2019-17803 Filed 8-16-19; 8:45 am]

BILLING CODE 4910-13-P